ENVIRONMENTAL PROTECTION AGENCY

40 CFR Part 70

[Regional Docket No. II-2016-01; FRL-9952-01-Region 2]

Petition To Reopen State Operating Permit; NY; Seneca Energy II, LLC

AGENCY: Environmental Protection Agency (EPA).

ACTION: Notice of final action.

SUMMARY: Pursuant to Clean Air Act (CAA) section 505(b)(2) and 40 CFR 70.8(d), the Environmental Protection Agency (EPA) Administrator signed an Order, dated July 29, 2016, denying a petition filed by Finger Lakes Zero Waste Coalition, Inc., dated February 8, 2016, asking the EPA to “reopen” the Title V operating permit, Permit No. 8-3244-00040/00002, issued by the New York State Department of Environmental Conservation (DEC) to Seneca Energy II, LLC (Seneca) relating to the Ontario County Landfill Gas-to-Energy Facility in western New York. The process by which the EPA may initiate the reopening process for such a title V permit is explained at 40 CFR 70.7(g)(1).

DATES: Any such petition for review of this Order filed under the CAA must be received by November 7, 2016 pursuant to section 307 of the CAA.

ADDRESSES: You may review copies of the final Order, the petitions, and other supporting information during normal business hours at EPA Region 2, 290 Broadway, New York, New York. If you wish to examine these documents, you should make an appointment at least 24 hours before the visiting day.

FOR FURTHER INFORMATION CONTACT: Steven Riva, Chief, Permitting Section, Air Programs Branch, Clean Air and Sustainability Division, EPA, Region 2, 290 Broadway, 25th Floor, New York, New York 10007, telephone (212) 637-4074, email address: riva.steven@epa.gov, or the above EPA Region 2 address.

SUPPLEMENTARY INFORMATION: In the context of a petition to reopen, the threshold determination is the Administrator's “find[ing] that cause exists to terminate, modify, or revoke and reissue a permit” pursuant to 40 CFR 70.7(f). If, and only if, the Administrator makes that finding, the EPA “will notify” the relevant entities to initiate the reopening process. In light of the discretionary threshold finding applicable to reopening for cause by the EPA, a petition to reopen a title V permit should present evidence (e.g., factual information, citation, analysis) explaining why there is cause to reopen the title V permit pursuant to 40 CFR 70.7(f). In this instance, the Petitioner has not presented sufficient evidence that the title V permit fails to comply with the CAA, or that it should be reopened for cause pursuant to 40 CFR 70.7(f).

Dated: August 29, 2016.
Catherine McCabe,
Acting Regional Administrator, Region 2.

[FR Doc. 2016-21614 Filed 9-7-16; 8:45 am]

BILLING CODE 6560-50-P